FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in the BHC Act (12 U.S.C. 1842(c)).

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than July 28, 2025.

A. Federal Reserve Bank of New York (Keith Goodwin, Head of Bank Applications) 33 Liberty Street, New York, New York 10045-0001. Comments can also be sent electronically to Comments.applications@ny.frb.org:

1. Seneca Financial MHC, Baldwinsville, New York; to convert from mutual to stock form. As part of the conversion, Seneca Financial MHC, and Seneca Financial Corp., also of Baldwinsville, New York, an existing mid-tier savings and loan holding company, will cease to exist and Seneca Savings, Baldwinsville, New York, will convert to a commercial bank, to be renamed Seneca Savings Bank, National Association, and become a wholly-owned subsidiary of Seneca Bancorp, Inc. a newly-formed Maryland corporation, which has applied to become a bank holding company, pursuant to Section 3(a)(1) of the BHC Act.

B. Federal Reserve Bank of Richmond (Brent B. Hassell, Assistant Vice President) P.O. Box 27622, Richmond, Virginia 23261. Comments can also be sent electronically to Comments.applications@rich.frb.org:

1. Miners and Merchants Bancorp, Inc., Grundy, Virginia; to acquire First Community Corporation, and thereby indirectly acquire First Community Bank of East Tennessee, both of Rogersville, Tennessee.

Board of Governors of the Federal Reserve System.
Michele Taylor Fennell,
Associate Secretary of the Board.

[FR Doc. 2025-11819 Filed 6-25-25; 8:45 am]

BILLING CODE 6210-01-P